DEPARTMENT OF HEALTH AND HUMAN SERVICES

Centers for Medicare & Medicaid Services

Privacy Act of 1974; Matching Program

AGENCY: Centers for Medicare & Medicaid Services, Department of Health and Human Services.

ACTION: Notice of a new matching program.

SUMMARY: In accordance with subsection (e)(12) of the Privacy Act of 1974, as amended, the Department of Health and Human Services (HHS), Centers for Medicare & Medicaid Services (CMS) is providing notice of a new matching program between CMS and the Department of Veterans Affairs (VA), Veterans Health Administration (VHA), “Verification of Eligibility for Minimum Essential Coverage Under the Patient Protection and Affordable Care Act Through a Veterans Health Administration Plan.”

DATES: The deadline for comments on this notice is November 2, 2018. The re-established matching program will commence not sooner than 30 days after publication of this notice, provided no comments are received that warrant a change to this notice. The matching program will be conducted for an initial term of 18 months (from approximately October 2018 to April 2020) and within 3 months of expiration may be renewed for one additional year if the parties make no change to the matching program and certify that the program has been conducted in compliance with the matching agreement.

ADDRESSES: Interested parties may submit written comments to: CMS Privacy Act Officer, Division of Security, Privacy Policy & Governance, Information Security & Privacy Group, Office of Information Technology, CMS, 7500 Security Blvd., Baltimore, MD 21244-1870, Mailstop: N3-15-25, or by email to: walter.stone@cms.hhs.gov. Comments received will be available for review at this location, by appointment, during regular business hours, Monday through Friday from 9:00 a.m. to 3:00 p.m.

FOR FURTHER INFORMATION CONTACT: If you have questions about the matching program, you may contact Jack Lavelle, Senior Advisor, Marketplace Eligibility and Enrollment Group, Center for Consumer Information and Insurance Oversight, CMS, 7501 Wisconsin Ave., Bethesda, MD 20814, (410) 786-0639, or by email at Jack.Lavelle1@cms.hhs.gov.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Barbara Demopulos,
CMS Privacy Advisor, Division of Security, Privacy Policy and Governance, Information Security and Privacy Group, Office of Information Technology, Centers for Medicare & Medicaid Services.

Participating Agencies

The Department of Health and Human Services (HHS), Centers for Medicare & Medicaid Services (CMS) is the recipient agency, and the Department of Veterans Affairs (VA), Veterans Health Administration (VHA) is the source agency.

Authority for Conducting the Matching Program

The statutory authority for the matching program is 42 U.S.C. 18001.

Purpose(s)

The purpose of the matching program is to assist CMS in determining individuals' eligibility for financial assistance in paying for private health insurance coverage. In this matching program, VHA provides CMS with data when a state administering entity (AE) requests it and VHA is authorized to release it, verifying whether an individual who is applying for or is enrolled in private health insurance coverage under a qualified health plan through a federally-facilitated health insurance exchange is eligible for coverage under a VHA health plan. CMS makes the data provided by VHA available to the requesting AE through a data services hub to use in determining the applicant's or enrollee's eligibility for financial assistance (including an advance tax credit and cost-sharing reduction, which are types of insurance affordability programs) in paying for private health insurance coverage. VHA health plans provide minimum essential coverage, and eligibility for such plans usually precludes eligibility for financial assistance in paying for private coverage. The data provided by VHA under this matching program will be used by CMS and AEs to authenticate identity, determine eligibility for financial assistance, and determine the amount of the financial assistance.

Categories of Individuals

The categories of individuals whose information is involved in the matching program are:

• Veterans whose records at VHA match data provided to VHA by CMS (submitted by AEs) about individuals who are applying for or are enrolled in private insurance coverage under a qualified health plan through a federally-facilitated health insurance exchange.

Categories of Records

The categories of records used in this matching program are identity records and minimum essential coverage period records, consisting of the following data elements:

Data provided by CMS to VHA:

a. First name (required)

b. middle name/initial (if provided by applicant)

c. surname (applicant's last name) (required)

d. date of birth (required)

e. gender (optional)

f. SSN (required)

g. requested qualified health plan (QHP) coverage effective date (required)

h. requested QHP coverage end date (required)

i. transaction ID (required)

Data provided by VHA to CMS:

a. SSN (required)

b. start/end date(s) of enrollment period(s) (when match occurs)

c. a blank date response when a non-match occurs

d. if CMS transmits request and a match is made, but VA's record contains a date of death, VA will respond in the same manner as a non-match response, with a blank date

e. enrollment period(s) is/are defined as the timeframe during which the individual was enrolled in a VHA health care program

Systems(s) of Records

The records used in this matching program will be disclosed from the following systems of records, as authorized by routine uses published in the system of records notices (SORNs) cited below:

A. System of Records Maintained by CMS

• CMS Health Insurance Exchanges System (HIX), CMS System No. 09-70-0560, last published in full at 78 FR 63211 (Oct. 23, 2013), as amended at 83 FR. 6591 (Feb. 14, 2018). Routine use 3 authorizes CMS' disclosures to VHA.

B. Systems of Records Maintained by VHA

• 147VA10NF1 Enrollment and Eligibility Records—VA, published at 81 FR 45597 (July 14, 2016). Routine use 14 authorizes VHA's disclosures to CMS.

• 54VA10NB3 Veterans and Beneficiaries Purchased Care Community Health Care Claims, Correspondence, Eligibility, Inquiry and Payment Files—VA, published at 80 FR 11527 (March 3, 2015). Routine use 25 authorizes VHA's disclosures to CMS.

[FR Doc. 2018-21506 Filed 10-2-18; 8:45 am]

BILLING CODE P